SECURITIES AND EXCHANGE COMMISSION

[Release No. IC-25685]

Notice of Applications for Deregistration Under Section 8(f) of the Investment Company Act of 1940

July 26, 2002.

The following is a notice of applications for deregistration under section 8(f) of the Investment Company Act of 1940 for the month of July, 2002. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on August 20, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

Freedom Mutual Fund [File No. 811-3126]

Freedom Group of Tax Exempt Funds [File No. 811-3519]

Summary: Each applicant seeks an order declaring that it has ceased to be an investment company. On March 8, 2002, each applicant transferred its assets to corresponding series of Great Hall Investment Funds, Inc. and/or Money Market Obligations Trust, based on net asset value. Expenses of approximately $88,223 and $52,276, respectively, incurred in connection with the reorganizations were paid by Voyageur Asset Management, Inc., investment adviser to the acquired funds and the acquiring funds.

Filing Dates: The applications were filed on June 4, 2002, and amended on July 19, 2002.

Applicants' Address: One Beacon St., Boston, MA 02108.

Pioneer Global Consumers Fund [File No. 811-10457]

Pioneer Global Industrials Fund [File No. 811-10459]

Pioneer Global Energy & Utilities Fund [File No. 811-10461]

Summary: Each applicant seeks an order declaring that it has ceased to be an investment company. On June 17, 2002, each applicant made a liquidating distribution to Pioneer Funds Distributor, Inc., each applicant's sole shareholder, based on net asset value. Expenses of $1,000 were incurred in connection with each of the liquidations and were paid by Pioneer Investment Management, Inc., investment adviser to each applicant.

Filing Date: The applications were filed on July 2, 2002.

Applicants' Address: 60 State St., Boston, MA 02109.

Midas Investors Ltd. [File No. 811-835]

Midas U.S. and Overseas Fund Ltd. [File No. 811-4741]

Summary: Each applicant seeks an order declaring that it has ceased to be an investment company. On November 16, 2001, applicants transferred their assets to Midas Fund, Inc. and Midas Special Equities Fund, Inc., respectively, based on net asset value. Expenses of $35,090 and $25,818, respectively, incurred in connection with the reorganizations were paid by each applicant.

Filing Dates: The applications were filed on April 9, 2002, and amended on July 10, 2002.

Applicants' Address: 11 Hanover Sq., New York, NY 10005.

Dow Jones Islamic Market Index Portfolio [File No. 811-9569]

Summary: Applicant, a master fund in a master-feeder structure, seeks an order declaring that it has ceased to be an investment company. On June 28, 2002, applicant made a liquidating distribution to its remaining feeder fund based on net asset value. Applicant incurred no expenses in connection with the liquidation.

Filing Dates: The application was filed on June 7, 2002, and amended on July 10, 2002.

Applicant's Address: 63 Wall St., New York, NY 10005.

BBH Global Equity Portfolio [File No. 811-9991]

Summary: Applicant seeks an order declaring that it has ceased to be an investment company. On January 16, 2002, applicant made a liquidating distribution to its shareholders based on net asset value. Applicant incurred no expenses in connection with the liquidation.

Filing Dates: The application was filed on June 7, 2002, and amended on July 10, 2002.

Applicant's Address: 63 Wall St., New York, NY 10005.

Merrill Lynch High Income Municipal Bond Fund, Inc. [File No. 811-6156]

Summary: Applicant, a closed-end investment company, seeks an order declaring that it has ceased to be an investment company. On November 19, 2001, applicant transferred its assets to MuniAssets Fund, Inc., based on net asset value. Expenses of $176,078 incurred in connection with the reorganization were paid by applicant and the acquiring fund.

Filing Dates: The application was filed on June 17, 2002, and amended on July 2, 2002.

Applicant's Address: Merrill Lynch Investment Managers, L.P., 800 Scudders Mill Rd., Plainsboro, NJ 08536.

For the Commission, by the Division of Investment Management, pursuant to delegated authority.
Margaret H. McFarland,
Deputy Secretary.

[FR Doc. 02-19391 Filed 7-31-02; 8:45 am]

BILLING CODE 8010-01-P